DEPARTMENT OF THE INTERIOR

National Park Service

[NPS-WASO-NAGPRA-15176; PPWOCRADN0-PCU00RP14.R50000]

Notice of Inventory Completion: Texas A&M University, College Station, TX

AGENCY: National Park Service, Interior.

ACTION: Notice.

SUMMARY: Texas A&M University has completed an inventory of human remains and associated funerary objects, in consultation with the appropriate Indian tribes or Native Hawaiian organizations, and has determined that there is a cultural affiliation between the human remains and associated funerary objects and present-day Indian tribes or Native Hawaiian organizations. Lineal descendants or representatives of any Indian tribe or Native Hawaiian organization not identified in this notice that wish to request transfer of control of these human remains and associated funerary objects should submit a written request to Texas A&M University. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to Texas A&M University at the address in this notice by May 19, 2014.

ADDRESSES: Dr. Suzanne L. Eckert, Department of Anthropology, Texas A&M University, College Station, TX 77843-4352, telephone (979) 845-5242.

SUPPLEMENTARY INFORMATION: Notice is here given in accordance with the Native American Graves Protection and Repatriation Act (NAGPRA), 25 U.S.C. 3003, of the completion of an inventory of human remains and associated funerary objects under the control of Texas A&M University, College Station, TX. The human remains and associated funerary objects were removed from Burleson County, TX.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by Texas A&M University (TAMU) professional staff in 1995. In 2010, representatives of the Comanche Nation, Oklahoma; Kickapoo Tribe of Oklahoma; Tonkawa Tribe of Indians of Oklahoma; and the Tunica-Biloxi Indian Tribe were invited to consult with TAMU for the purpose of determining the place and manner of the repatriation. The Kickapoo Tribe of Oklahoma contacted TAMU with an interest in having these remains repatriated; no representatives from the other tribes contacted TAMU in response to this invitation.

History and Description of the Remains

Between July and August 1984, human remains representing, at minimum, five individuals were removed from the Highway 21 Project (41BU16) in Burleson County, TX, as part of a CRM project conducted by Texas A&M under the supervision of TX-DOT. The human remains were determined to be as follows: From Burial #1 (TAMU-NAGPRA 26), one adult female; from Burial #2 (TAMU-NAGPRA 27), one adult female; from Burial #3 (TAMU-NAGPRA 28), one adult female; from Burial #4 (TAMU-NAGPRA 29), one subadult; and Burial #5 (TAMU-NAGPRA 30), one adult female. No known individuals were identified. A total of six associated funerary objects were recovered with the human remains. The three associated funerary objects found in the vicinity of Burial #1 include one Scallorn point, one unidentified point, and one ceramic sherd. The two associated funerary objects found in the vicinity of Burial #2 include one Gary Point and one quartzite hammerstone. The one associated funerary object found in the vicinity of Burial #3 is the distal fragment of a projectile point. No associated funerary objects were associated with Burial #4 or Burial #5.

In October of 1992, human remains representing, at minimum, three individuals were removed from Buffalo Ranch (41BU52) in Burleson County, TX. The human remains were determined to be as follows: from Burial A also designated Burial 1 (TAMU-NAGPRA 33), 1 adult female; from Burial B also designated Burial 2 (TAMU-NAGPRA 34), 1 adult male; from Burial C (TAMU-NAGPRA 35), 1 adult male. At the time of donation to TAMU, these human remains were identified as “burials eroding from river bank.” No known individuals were identified. No associated funerary objects are present.

Sometime prior to March 1996, human remains representing, at minimum, one individual were removed from the banks of the Brazos River in Burleson County, TX, by the Burleson County Sheriff's Department. At the time of donation to TAMU, the human remains (TAMU-NAGPRA 53) were identified as “probably those of a prehistoric Native American female having belong to a hunting and gathering group.” Analysis of the human remains by physical anthropologists indicates that this individual was of Native American origins. The human remains were determined to be one adult female. No known individuals were identified. No associated funerary objects are present.

Based on associated funerary objects and/or the geographic location of these remains, TAMU staff found it reasonable to trace a shared identity to late prehistoric Plains tribes of Central Texas. Archeological and linguistic evidence, historical records, and traditional beliefs indicate that there is a relationship of shared group identity between the late prehistoric Plains tribes of Central Texas and the present-day Comanche Nation, Oklahoma; Kickapoo Tribe of Oklahoma; Tonkawa Tribe of Indians of Oklahoma; and the Tunica-Biloxi Indian Tribe.

Determinations Made by Texas A&M University

Officials of Texas A&M University have determined that:

• Pursuant to 25 U.S.C. 3001(9), the human remains described in this notice represent the physical remains of nine individuals of Native American ancestry.

• Pursuant to 25 U.S.C. 3001(3)(A), the six objects described in this notice are reasonably believed to have been placed with or near individual human remains at the time of death or later as part of the death rite or ceremony.

• Pursuant to 25 U.S.C. 3001(2), there is a relationship of shared group identity that can be reasonably traced between the Native American human remains and the Comanche Nation, Oklahoma; Kickapoo Tribe of Oklahoma; Tonkawa Tribe of Indians of Oklahoma; and the Tunica-Biloxi Indian Tribe.

Additional Requestors and Disposition

Lineal descendants or representatives of any Indian tribe or Native Hawaiian organization not identified in this notice that wish to request transfer of control of these human remains and associated funerary objects should submit a written request with information in support of the request to Dr. Suzanne L. Eckert, Department of Anthropology, Texas A&M University, College Station, TX 77843-4352, telephone (979) 845-5242, by May 19, 2014. After that date, if no additional requestors have come forward, transfer of control of the human remains and associated funerary objects to the Comanche Nation, Oklahoma; Kickapoo Tribe of Oklahoma; Tonkawa Tribe of Indians of Oklahoma; and the Tunica-Biloxi Indian Tribe.

Texas A&M University is responsible for notifying the Comanche Nation, Oklahoma; Kickapoo Tribe of Oklahoma; Tonkawa Tribe of Indians of Oklahoma; and the Tunica-Biloxi Indian Tribe that this notice has been published.

Dated: March 4, 2014.
Sherry Hutt,
Manager, National NAGPRA Program.

[FR Doc. 2014-08797 Filed 4-16-14; 8:45 am]

BILLING CODE 4312-50-P